DEPARTMENT OF COMMERCE

International Trade Administration

[A-351-864, A-570-184, A-533-934, A-552-847]

Hard Empty Capsules From Brazil, the People's Republic of China, India, and the Socialist Republic of Vietnam: Postponement of Preliminary Determinations in the Less-Than-Fair-Value Investigations

AGENCY: Enforcement and Compliance, International Trade Administration, Department of Commerce.

DATES: Applicable March 5, 2025.

FOR FURTHER INFORMATION CONTACT: Gemma Larsen at (202) 482-8125 (Brazil), Rebecca Janz at (202) 482-2972 (the People's Republic of China (China)), Luke Caruso at (202) 482-2081 (India), and Jinny Ahn at (202) 482-0239 (the Socialist Republic of Vietnam (Vietnam)), AD/CVD Operations, Enforcement and Compliance, International Trade Administration, U.S. Department of Commerce, 1401 Constitution Avenue NW, Washington, DC 20230.

SUPPLEMENTARY INFORMATION:

Background

On November 13, 2024, the U.S. Department of Commerce (Commerce) initiated less-than-fair-value (LTFV) investigations of imports of hard empty capsules from Brazil, China, India, and Vietnam.¹ Currently, the preliminary determinations of these investigations are due no later than April 2, 2025.

¹ See Hard Empty Capsules from Brazil, the People's Republic of China, India, and the Socialist Republic of Vietnam: Initiation of Less-Than-Fair-Value Investigations, 89 FR 91684 (November 20, 2024).

Postponement of Preliminary Determinations

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 26, 2025, the petitioner ² submitted a timely request that Commerce postpone the preliminary determinations in these LFTV investigations.³ The petitioner stated that it requests postponement in order to allow sufficient time to fully develop all aspects of the administrative records and so that Commerce can analyze forthcoming questionnaire responses, as necessary.⁴

² The petitioner is Lonza Greenwood LLC.

³ See Petitioner's Letter, “Lonza's Request for Postponement of the Department's Antidumping Duty Preliminary Determinations,” dated February 26, 2025.

⁴ Id.

For the reasons stated above and because there are no compelling reasons to deny the requests, Commerce, in accordance with section 733(c)(1)(A) of the Act, is postponing the deadline for the preliminary determinations in these investigations by 50 days (i.e., 190 days after the date on which these investigations were initiated). As a result Commerce will issue its preliminary determinations no later than May 22, 2025. In accordance with section 735(a)(1) of the Act and 19 CFR 351.210(b)(1), the deadline for the final determinations of these investigations will continue to be 75 days after the date of the preliminary determinations, unless postponed at a later date.

Notification to Interested Parties

This notice is issued and published pursuant to section 733(c)(2) of the Act and 19 CFR 351.205(f)(1).

Dated: February 27, 2025.
Christopher Abbott,
Deputy Assistant Secretary for Policy and Negotiations, performing the non-exclusive functions and duties of the Assistant Secretary for Enforcement and Compliance.

[FR Doc. 2025-03559 Filed 3-4-25; 8:45 am]

BILLING CODE 3510-DS-P